NATIONAL AERONAUTICS AND SPACE ADMINISTRATION

[Notice: 024-038]

NASA Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Tuesday, July 9, 2024, 10 a.m. to 6 p.m.; Wednesday, July 10, 2024, 10 a.m. to 6 p.m., Thursday, July 11, 2024, 10 a.m. to 1:30 p.m. All times are eastern time.

ADDRESSES: Virtual meeting by dial-in teleconference and WebEx only.

FOR FURTHER INFORMATION CONTACT: Ms. KarShelia Kinard, Science Mission Directorate, NASA Headquarters, Washington, DC 20546, (202) 358-2355 or karshelia.kinard@nasa.gov.

SUPPLEMENTARY INFORMATION: The meeting is entirely virtual and will be open to the public. The meeting will be available telephonically and via WebEx. You must use a touch-tone phone to participate in this meeting. Any interested persons may attend.

For Tuesday, July 9, 2024, the WebEx information for attendees is: https://nasaenterprise.webex.com/nasaenterprise/j.php?MTID=m4480f6d95034045137402bb099124391. The Webinar number is: 2819 070 5001 and the Webinar password is: PAC_day1 (72203291 from phones and video systems). To join by telephone call, use US Toll: +1-415-527-5035 (Access Code: 2819 070 5001).

For Wednesday, July 10, 2024, the WebEx information for attendees is: https://nasaenterprise.webex.com/nasaenterprise/j.php?MTID=m6cdd6743d9032e5f6ca6e45fd7ed12d7. The Webinar number is: 2831 764 9948 and the Webinar password is: PAC_day2 (72203292 from phones and video systems). To join by telephone call, use US Toll: +1-415-527-5035 (Access Code: 2831 764 9948).

For Thursday, July 11, 2024, the WebEx information for attendees is: https://nasaenterprise.webex.com/nasaenterprise/j.php?MTID=m0eb843fd9515bb82c185f4b2505d6fb6. The Webinar number is: 2829 223 2828 and the Webinar password is: PAC_day3 (72203293 from phones and video systems). To join by telephone call, use US Toll: +1-415-527-5035 (Access Code: 2829 223 2828).

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov.

The agenda for the meeting includes the following topics:

—Planetary Science Division Update

—Moon to Mars Program Update

—Mars Exploration Program (MEP) and Mars Sample Return (MSR) Update

—Lunar Updates

—Astrobiology Update

It is imperative that the meeting be held on these dates to accommodate the scheduling priorities of the key participants.

Carol J. Hamilton,
Acting Advisory Committee Management Officer. National Aeronautics and Space Administration.

[FR Doc. 2024-13007 Filed 6-12-24; 8:45 am]

BILLING CODE 7510-13-P